DEPARTMENT OF HOMELAND SECURITY

U.S. Citizenship and Immigration Services

[CIS No. 2721-22; DHS Docket No. USCIS-2022-0007]

Implementation of Employment Authorization for Individuals Covered by Deferred Enforced Departure for Liberians

AGENCY: U.S. Citizenship and Immigration Services (USCIS), Department of Homeland Security.

ACTION: Notice of Employment Authorization for Individuals Covered by Deferred Enforced Departure (DED).

SUMMARY: On June 27, 2022, President Joseph Biden issued a memorandum to the Secretary of State and the Secretary of Homeland Security (Secretary) determining that it was in the foreign policy interest of the United States to defer, through June 30, 2024, the removal of certain Liberian nationals, and individuals having no nationality who last habitually resided in Liberia, who are present in the United States and to provide them with employment authorization documentation. The memorandum directed the Secretary to make provision for immediate allowance of employment authorization for such individuals. This Notice provides information about Deferred Enforced Departure (DED) for certain eligible Liberian nationals, and individuals having no nationality who last habitually resided in Liberia, and provides information on how eligible individuals may apply for DED-based Employment Authorization Documents (EADs) with USCIS. Through this notice, DHS is providing employment authorization, including procedures for obtaining related documentation, for covered individuals through June 30, 2024, and automatically extending the validity of DED-based EADs bearing a Category Code of A-11 and a “Card Expires” date of March 30, 2020, January 10, 2021, or June 30, 2022, through June 30, 2024. Finally, this Notice provides instructions for DED-eligible Liberians, or individuals without nationality who last habitually resided in Liberia, on how to file for travel authorization.

DATES: The extension and expansion of DED and employment authorization for noncitizens covered by DED for Liberians is effective June 27, 2022, through June 30, 2024. Employment authorization and the procedures for obtaining EADs in this Notice apply to any of the following individuals who are not subject to any of the ineligibilities described in President Biden's memorandum to the Secretaries of State and Homeland Security: noncitizens who are Liberian nationals, or individuals having no nationality who last habitually resided in Liberia, regardless of country of birth, who were covered by DED as of June 30, 2022; as well as to Liberian nationals, or individuals having no nationality who last habitually resided in Liberia, regardless of country of birth, who have been continuously physically present in the United States since May 20, 2017. Liberian nationals, and individuals having no nationality who last habitually resided in Liberia, must meet all eligibility criteria for DED described below.

FOR FURTHER INFORMATION CONTACT:

• You may contact Rená Cutlip-Mason, Chief, Humanitarian Affairs Division, Office of Policy and Strategy, U.S. Citizenship and Immigration Services, Department of Homeland Security, by mail at 5900 Capital Gateway Drive, Camp Springs, MD 20746, or by phone at 800-375-5283.

• For further information on DED, including additional information on eligibility, please visit the USCIS DED web page at https://www.uscis.gov/humanitarian/deferred-enforced-departure. You can find specific information about DED for Liberians by selecting “DED Covered Country: Liberia” from the menu on the left of the DED web page.

• If you have additional questions about DED, please visit https://www.uscis.gov/tools. Our online virtual assistant, Emma, can answer many of your questions and point you to additional information on our website. If you are unable to find your answers there, you may also call our USCIS Contact Center at 800-375-5283 (TTY 800-767-1833).

• Applicants seeking information about the status of their individual cases may check Case Status Online, available on the USCIS website at https://www.uscis.gov, or visit the USCIS Contact Center at https://www.uscis.gov/contactcenter.

• Further information will also be available at local USCIS offices upon publication of this Notice.

SUPPLEMENTARY INFORMATION:

Table of Abbreviations

CFR—Code of Federal Regulations

DED—Deferred Enforced Departure

DHS—U.S. Department of Homeland Security

EAD—Employment Authorization Document

FNC—Final Non-confirmation

Form I-131—Application for Travel Document

Form I-765—Application for Employment Authorization

Form I-9—Employment Eligibility Verification

Form I-912—Request for Fee Waiver

FR—Federal Register

Government—U.S. Government

IER—U.S. Department of Justice, Civil Rights Division, Immigrant and Employee Rights Section

LRIF—Liberian Refugee Immigration Fairness

SAVE—USCIS Systematic Alien Verification for Entitlements Program

Secretary—Secretary of Homeland Security

TNC—Tentative Non-confirmation

TPS—Temporary Protected Status

TTY—Text Telephone

USCIS—U.S. Citizenship and Immigration Services

U.S.C.—United States Code

Purpose of This Action

Pursuant to the President's constitutional authority to conduct the foreign relations of the United States, President Biden has concluded that it is in the foreign policy interest of the United States to defer through June 30, 2024, the removal of any Liberian national, or individual without nationality who last habitually resided in Liberia, who is present in the United States and who was covered by DED as of June 30, 2022, as well as any Liberian national, or individual without nationality who last habitually resided in Liberia, who has been continuously physically present in the United States since May 20, 2017.¹ Through this Notice, as directed by the President, DHS is establishing procedures for individuals covered by DED for Liberians to apply for EADs valid through June 30, 2024, and is automatically extending the validity of DED-based EADs bearing a Category Code of A-11 and a “Card Expires” date of March 30, 2020, January 10, 2021, or June 30, 2022, through June 30, 2024.

¹ See Presidential Memorandum for the Secretary of State and the Secretary of Homeland Security on Extending and Expanding Eligibility for Deferred Enforced Departure for Liberians, June 27, 2022, https://www.whitehouse.gov/briefing-room/presidential-actions/2022/06/27/memorandum-on-extending-and-expanding-eligibility-for-deferred-enforced-departure-for-liberians/ (reprinted at 87 FR 38871 (June 29, 2022)).

What is deferred enforced departure (DED)?

• DED is an administrative deferral of removal ordered by the President. The authority to extend DED arises from the President's constitutional authority to conduct the foreign relations of the United States. The President can authorize DED for any reason related to this authority. DED has been authorized in situations where foreign nationals or other groups of noncitizens may face danger if required to return to countries or any part of such foreign countries experiencing political instability, conflict, or other unsafe conditions, or when there are other foreign policy reasons for allowing a designated group of noncitizens to remain in the United States.

• Although DED is not a specific immigration status, individuals covered by DED are not subject to removal from the United States, usually for a designated period of time. Furthermore, the President may direct that certain benefits, such as employment authorization or travel authorization, be available to the noncitizens covered by the DED directive.

• If the President provides for employment or travel authorization, USCIS administers those benefits. USCIS publishes a Federal Register notice to inform the covered population on how to apply for any benefits provided.

• The President issues directives regarding DED and who is covered via presidential memorandum. The qualification requirements for individuals who are covered by DED are based on the terms of the President's directive regarding DED and any relevant implementing requirements established by DHS. Since DED is a directive to defer removal of an individual, rather than a specific immigration status like Temporary Protected Status (TPS), there is no DED application form required for an individual to be covered by DED. Form I-765 (Application for Employment Authorization) may be filed if a DED-covered individual wants an EAD.

Background

The President has determined that there are compelling foreign policy reasons to extend and expand DED for Liberians. In his June 27, 2022 memorandum, he explained that “[p]roviding protection from removal and work authorization to these Liberians, for whom we have long authorized TPS or DED in the United States, including while they complete the [Liberian Refugee Immigration Fairness] (LRIF) status-adjustment process, honors the historic close relationship between the United States and Liberia and is in the foreign policy interests of the United States.”

The United States established diplomatic relations with Liberia in 1864, 17 years after it declared independence from the American Colonization Society, an organization that resettled free African Americans and freed slaves in Liberia.² Since 1991, the United States has provided safe haven for Liberians who were forced to flee their country as a result of armed conflict and widespread civil strife.

² U.S. Department of State, “U.S. Relations With Liberia” (Aug 2, 2019), https://www.state.gov/u-s-relations-with-liberia/.

• Due to ongoing civil war, Liberia was first designated for TPS for 12 months effective March 27, 1991, with successive extensions by Attorneys General under President George H.W. Bush and President Clinton to September 28, 1998,³ and a new designation (also termed “redesignation”) from September 29, 1998, until September 28, 1999.⁴

³ See Designation of Liberia Under Temporary Protected Status Program, 56 FR 12746 (Mar. 27, 1991) and Extension of Designation of Liberia Under Temporary Protected Status Program, 57 FR 2932 (Jan. 24, 1992), 58 FR 7898 (Feb. 10, 1993), 59 FR 9997 (Mar. 2, 1994), 60 FR 16163 (Mar. 29, 1995), 61 FR 8076 (Mar. 1, 1996), Extension of Designation and Redesignation of Liberia Under Temporary Protected Status Program, 62 FR 16608 (Apr. 7, 1997), Termination of Designation of Liberia Under Temporary Protected Status Program After Final 6-Month Extension, 63 FR 15437 (Mar. 31, 1998).

⁴ See Redesignation of Liberia Under Temporary Protected Status Program, 63 FR 51958 (Sept. 29, 1998).

• Although Attorney General (AG) Reno announced the termination of TPS effective September 28, 1999,⁵ President Clinton authorized DED of certain Liberians in the United States until September 29, 2000, citing the fragile political and economic situation in the country at the time,⁶ and DED was subsequently extended through September 29, 2002.⁷

⁵ See Termination of Designation of Liberia Under the Temporary Protected Status Program, 64 FR 41463 (Jul. 30, 1999).

⁶ See Presidential Memorandum for the Attorney General on Measures Regarding Certain Liberians in the United States, Sept. 27, 1999, https://clintonwhitehouse6.archives.gov/1999/09/1999-09-27-memorandum-on-liberians.html.

⁷ See Presidential Memorandum for the Attorney General on Measures Regarding Certain Liberians in the United States, Sept. 25, 2001, https://georgewbush-whitehouse.archives.gov/news/releases/2001/09/text/20010925-7.html.

• In October 2002, due to the outbreak of another civil war, AG Ashcroft designated Liberia for TPS from October 1, 2002 to October 1, 2003 and subsequently, Secretaries of Homeland Security redesignated Liberia for TPS and extended the designation through October 1, 2006.⁸ Secretary Chertoff announced the termination of TPS for Liberia effective October 1, 2007.⁹ In September 2007, President Bush announced DED of certain Liberians in the United States for 18 months, from October 1, 2007 until March 31, 2009.¹⁰ Following this DED authorization, DED was extended 5 times: (1) from March 31, 2009, for 18 months; ¹¹ (2) from March 31, 2010, for 18 months; ¹² (3) from September 30, 2011, for 18 months; ¹³ (4) from March 31, 2013, for 18 months; ¹⁴ and (5) from October 1, 2014, for 24 months.¹⁵

⁸ See Designation of Liberia Under the Temporary Protected Status Program, 67 FR 61664 (Oct. 1, 2002), Extension of the Designation of Liberia Under the Temporary Protected Status Program, 68 FR 46648 (Aug. 6, 2003), Termination and Re-designation of Liberia for Temporary Protected Status, 69 FR 52297 (Aug. 25, 2004), Extension of the Designation of Liberia for Temporary Protected Status, 70 FR 48176 (Aug. 16, 2005).

⁹ See Termination of the Designation of Liberia for Temporary Protected Status; Automatic Extension of Employment Authorization Documentation for Liberia TPS Beneficiaries, 71 FR 55000 (Sept. 20, 2006).

¹⁰ See Presidential Memorandum for the Secretary of Homeland Security on Measures Regarding Certain Liberians in the United States, Sept. 12, 2007, https://georgewbush-whitehouse.archives.gov/news/releases/2007/09/20070912-10.html.

¹¹ See Presidential Memorandum for the Secretary of Homeland Security on Deferred Enforced Departure for Liberians, Mar. 23, 2009, https://obamawhitehouse.archives.gov/the-press-office/presidential-memorandum-regarding-deferred-enforced-departure-liberians.

¹² See Presidential Memorandum for the Secretary of Homeland Security on Deferred Enforced Departure for Liberians, Mar. 19, 2010, https://obamawhitehouse.archives.gov/the-press-office/presidential-memorandum-deferred-enforced-departure-liberians.

¹³ See Presidential Memorandum for the Secretary of Homeland Security on Deferred Enforced Departure for Liberians, Aug. 16, 2011, https://obamawhitehouse.archives.gov/the-press-office/2011/08/16/memorandum-president-regarding-deferred-enforced-departure-liberians.

¹⁴ See Presidential Memorandum for the Secretary of Homeland Security on Deferred Enforced Departure for Liberians, Mar. 15, 2013, https://obamawhitehouse.archives.gov/the-press-office/2013/03/15/presidential-memorandum-deferred-enforced-departure-liberians.

¹⁵ See Presidential Memorandum for the Secretary of Homeland Security on Deferred Enforced Departure for Liberians, Sept. 26, 2014, https://obamawhitehouse.archives.gov/the-press-office/2014/09/26/presidential-memorandum-deferred-enforced-departure-liberians.

• In November 2014, Secretary Johnson designated Liberia for TPS from November 21, 2014, through May 21, 2016, due to an outbreak of Ebola virus disease in West Africa.¹⁶ TPS for Liberia was then extended from May 22, 2016, through November 21, 2016.¹⁷ In September 2016, Secretary Johnson announced a six-month extension of TPS benefits for an orderly transition before termination of Liberia's TPS designation effective May 21, 2017.¹⁸

¹⁶ See Designation of Liberia for Temporary Protected Status, 79 FR 69502 (Nov. 21, 2014).

¹⁷ See Extension of the Designation of Liberia for Temporary Protected Status, 81 FR 15328 (Mar. 22, 2016).

¹⁸ See Six-Month Extension of Temporary Protected Status Benefits for Orderly Transition Before Termination of Liberia's Designation for Temporary Protected Status, 81 FR 66059 (Sept. 26, 2016).

• In September 2016, President Obama extended DED for Liberians from October 1, 2016, for 18 months.¹⁹ In March 2018, President Trump announced the expiration of DED for Liberians effective March 31, 2019, following a 12-month wind-down period.²⁰ In March 2019, President Trump announced the extension of DED for Liberians for an additional 12-month wind-down period through March 30, 2020.²¹

¹⁹ See Presidential Memorandum for the Secretary of Homeland Security on Deferred Enforced Departure for Liberians, Sept. 28, 2016, https://obamawhitehouse.archives.gov/the-press-office/2016/09/28/presidential-memorandum-deferred-enforced-departure-liberians.

²⁰ See Presidential Memorandum for the Secretary of State and the Secretary of Homeland Security, Mar. 27, 2018, https://trumpwhitehouse.archives.gov/presidential-actions/presidential-memorandum-secretary-state-secretary-homeland-security/.

²¹ See Presidential Memorandum on Extension of Deferred Enforced Departure for Liberians, Mar. 28, 2019, https://trumpwhitehouse.archives.gov/presidential-actions/memorandum-extension-deferred-enforced-departure-liberians/.

• On December 20, 2019, President Trump signed the National Defense Authorization Act (NDAA) for Fiscal Year 2020 (Pub. L. 116-92) which included a provision titled “Liberian Refugee Immigration Fairness” (LRIF). LRIF provided certain Liberians, including those who had been continuously physically present in the United States since November 20, 2014, as well as their spouses, children, and unmarried sons or daughters, the ability to adjust their status to that of a U.S. Lawful Permanent Resident. Under this provision, eligible Liberian nationals and eligible family members had until December 20, 2020, to apply for adjustment of status.²²

²² See National Defense Authorization Act for Fiscal Year 2020, Public Law 116-92, Title LXXVI—Other Matters, Section 7611 Liberian Refugee Immigration Fairness, https://www.govinfo.gov/content/pkg/PLAW-116publ92/html/PLAW-116publ92.htm.

• In March 2020, President Trump issued a memorandum extending the wind-down period for DED for Liberians through January 10, 2021.²³ In December 2020, the Consolidated Appropriations Act, 2021 (Pub. L. 116-260) extended the LRIF application deadline for an additional year, from December 20, 2020, to December 20, 2021.²⁴

²³ See Presidential Memorandum for the Secretary of State and the Secretary of Homeland Security on Extending the Wind-Down Period for Deferred Enforced Departure for Liberians, Mar. 30, 2020, https://trumpwhitehouse.archives.gov/presidential-actions/memorandum-extending-wind-period-deferred-enforced-departure-liberians/.

²⁴ See Consolidated Appropriations Act, 2021, Part 1, Public Law 116-260, Dec. 27, 2020, Division O—Extensions and Technical Corrections, Title IX—Adjustment of Status for Liberian Nationals Extension, Section 901, https://www.congress.gov/116/plaws/publ260/PLAW-116publ260.pdf.

• In January 2021, President Biden reinstated DED for Liberians from January 10, 2021 through June 30, 2022, with limited exclusions for certain ineligibilities.²⁵ In June 2022, President Biden extended and expanded DED for Liberians from June 30, 2022 through June 30, 2024.²⁶ In addition to those individuals who were covered by DED on June 30, 2022, President Biden expanded DED coverage to certain Liberians, and individuals without nationality who last habitually resided in Liberia, who have been continuously physically present in the United States since May 20, 2017, and are not subject to the categories of individuals excluded from DED by the President's Memorandum.

²⁵ See Presidential Memorandum for the Secretary of State and the Secretary of Homeland Security on Reinstating Deferred Enforced Departure for Liberians, Jan. 20, 2021, https://www.whitehouse.gov/briefing-room/presidential-actions/2021/01/20/reinstating-deferred-enforced-departure-for-liberians/.

²⁶ See Presidential Memorandum for the Secretary of State and the Secretary of Homeland Security on Extending and Expanding Eligibility for Deferred Enforced Departure for Liberians, June 27, 2022, https://www.whitehouse.gov/briefing-room/presidential-actions/2022/06/27/memorandum-on-extending-and-expanding-eligibility-for-deferred-enforced-departure-for-liberians/.

Ur M. Jaddou,
Director, U.S. Citizenship and Immigration Services.

Eligibility and Employment Authorization for DED

How will I know if I am eligible for employment authorization under the DED presidential memorandum for liberians?

The procedures for employment authorization in this Notice apply to non-U.S. citizens who are Liberian nationals, or individuals without nationality who last habitually resided in Liberia, who are present in the United States and who were covered by DED as of June 30, 2022, as well as any Liberian nationals, or individuals without nationality who last habitually resided in Liberia, who have been continuously physically present in the United States since May 20, 2017, except for noncitizens:

• Who would be ineligible for TPS for the reasons provided in section 244(c)(2)(B) of the Immigration and Nationality Act, 8 U.S.C. 1254a(c)(2)(B); ²⁷

²⁷ This section includes the nonwaivable ineligibility grounds for TPS regarding convictions for any felony or two or more misdemeanors committed in the United States, and the bars to asylum that also apply to TPS in INA, 208(b)(2)(A). See INA, 244(c)(2)(B); 8 U.S.C. 1254a(c)(2)(B).

• Who sought or seek Lawful Permanent Residence status under the Liberian Refugee Immigration Fairness (LRIF) provision but whose applications have been or are denied by the Secretary of Homeland Security due to ineligibility for the LRIF provision under sections 7611(b)(1)(C) and (b)(3) of the National Defense Authorization Act (NDAA);

• Whose removal the Secretary of Homeland Security determines is in the interest of the United States, subject to the LRIF provision;

• Whose presence or activities in the United States the Secretary of State has reasonable grounds to believe would have potentially serious adverse foreign policy consequences for the United States;

• Who have voluntarily returned to Liberia or their country of last habitual residence outside the United States for an aggregate period of 180 days or more, as specified in subsection (c)(2) of the LRIF provision; or

• Who are subject to extradition.

What will I need to file if I am covered by DED and would like to obtain an EAD?

If you are covered by DED for Liberians and want a DED-based EAD, you must file an Application for Employment Authorization (Form I-765). Please carefully follow the Form I-765 instructions when completing the application for an EAD. When filing the Form I-765, you must:

• Indicate that you are eligible for DED by entering “(a)(11)” in response to Question 27 on the Form I-765; and

• Submit the fee for the Form I-765 (or request a fee waiver).

The regulations require individuals covered by DED who request an EAD to pay the fee prescribed in 8 CFR 103.7 for the Form I-765. See also 8 CFR 274a.12(a)(11) (employment authorization for DED-covered individuals); and 8 CFR 274a.13(a) (requirement to file EAD application if EAD desired). If you are unable to pay the fee, you may request a fee waiver by submitting a Request for Fee Waiver (Form I-912).

If you currently have a DED-based EAD bearing a Category Code of A-11 and a “Card Expires” date of March 30, 2020, January 10, 2021, or June 30, 2022, and are covered by DED via the June 27, 2022 Presidential Memorandum, your EAD is automatically extended through June 30, 2024, even though its facial expiration date has passed.

Supporting Documentation

The filing instructions on Form I-765 list all the documents needed. You may also find information on the initial required documents on the USCIS website at https://www.uscis.gov/i-765. If USCIS determines after reviewing your submission that it needs additional information, it will issue you a Request for Evidence (RFE).

How will I know if USCIS will need to obtain biometrics?

If biometrics are required to produce your EAD, you will be notified by USCIS and scheduled for an appointment at a USCIS Application Support Center.

Where do I submit my completed DED-based application for employment authorization (Form I-765)?

For a DED-based EAD, mail your completed Form I-765 and supporting documentation to the proper address in Table 1.

Table 1—Mailing Addresses
If you are . . . | Mail to . . .
Mailing your form through the U.S. Postal Service (USPS) | USCIS, Attn: DED Liberia, P.O. Box 805283, Chicago, IL 60680-5283.
Using FedEx, UPS, or DHL | USCIS, Attn: DED Liberia (Box 805283), 131 S. Dearborn 3rd Floor, Chicago, IL 60603-5517.

You may file Form I-765 and Form I-131, Application for Travel Document together or separately. More information on filing a Form I-131 appears below.

Can I file my DED-based form I-765 electronically?

No. Electronic filing is not available when filing a DED-based Form I-765.

What happens after June 30, 2024, to DED-based EADs?

This DED authorization is set to end on June 30, 2024. After that date, employers can no longer accept EADs with a Category Code of A-11 and a “Card Expires” date of March 30, 2020, January 10, 2021, June 30, 2022, or June 30, 2024. Employees will need to present other evidence of continued work authorization.

Travel

In its discretion, DHS may provide travel authorization as a benefit of DED for eligible Liberian nationals, or individuals without nationality who last habitually resided in Liberia. You must file for travel authorization if you wish to travel outside of the United States. If granted, travel authorization gives you permission to leave the United States and return during a specific period. To request travel authorization, you must file Form I-131, Application for Travel Document, available at https://www.uscis.gov/i-131. You may file Form I-131 together with your Form I-765 or separately. When filing the Form I-131, you must:

• Select Item Number 1.d. in Part 2 on the Form I-131; and

• Submit the fee for the Form I-131, or request a fee waiver, which you may submit on Form I-912, Request for Fee Waiver.

If you leave the United States without first receiving travel authorization, you may no longer be eligible for DED and may not be permitted to reenter the United States. Please also be advised that if you return to Liberia, you may not be permitted to resume DED in the United States since the presidential memorandum providing for DED for Liberian nationals, and individuals without nationality who last habitually resided in Liberia, excludes individuals who have voluntarily returned to Liberia for an aggregate period of 180 days or more.²⁸

²⁸ See Presidential Memorandum for the Secretary of State and the Secretary of Homeland Security on Extending and Expanding Eligibility for Deferred Enforced Departure for Liberians, June 27, 2022, https://www.whitehouse.gov/briefing-room/presidential-actions/2022/06/27/memorandum-on-extending-and-expanding-eligibility-for-deferred-enforced-departure-for-liberians/.

Mailing Information

Mail your completed Form I-131 to the proper address provided in Table 1.

Supporting Documentation

The filing instructions for Form I-131 list all the documents you need to include with your application. You may also find information on the acceptable documentation and DED eligibility on the USCIS website at https://www.uscis.gov/humanitarian/deferred-enforced-departure. If USCIS needs additional evidence, it will issue you a RFE.

General Employment-Related Information for Individuals With DED-Based EADs and Their Employers

How can I obtain information on the status of my EAD request?

To get case status information about your DED-based EAD request, you can check Case Status Online at https://www.uscis.gov, or visit the USCIS Contact Center at https://www.uscis.gov/contactcenter. If your Form I-765 has been pending for more than 90 days, and you still need assistance, you may ask a question about your case online at https://egov.uscis.gov/e-request/Intro.do or call the USCIS Contact Center at 800-375-5283 (TTY 800-767-1833).

Does this Federal Register notice automatically extend my current EAD through June 30, 2024?

Regardless of your country of birth, if you are a national of Liberia, or an individual having no nationality who last habitually resided in Liberia, you were covered by DED for Liberians as of June 30, 2022, and you are covered by DED via the June 27, 2022 Presidential Memorandum, this notice automatically extends your DED-based EAD bearing a March 30, 2020, January 10, 2021, or June 30, 2022 “Card Expires” date and an A-11 Category Code through June 30, 2024. This means that your EAD is valid through June 30, 2024, even though the “Card Expires” date has passed.

When I am hired, what documentation may I show to my employer as evidence of identity and employment authorization when completing Form I-9?

You can find the Lists of Acceptable Documents on the third page of Form I-9, Employment Eligibility Verification, as well as the Acceptable Documents web page at https://www.uscis.gov/i-9-central/acceptable-documents. Employers must complete Form I-9 to verify the identity and employment authorization of all new employees they hire. Within three business days of hire, employees must present acceptable document(s) to their employers as evidence of identity and employment authorization to satisfy Form I-9 requirements and employers must complete Section 2 of the Form I-9. For employment that will last less than three days, Section 2 of the Form I-9 must be completed no later than the first day of work for pay.

You may present any documentation from List A (which provides evidence of both identity and employment authorization) or documentation from List B (which provides evidence of your identity) together with documentation from List C (which provides evidence of employment authorization), or where applicable you may present an acceptable receipt. Receipts may not be accepted if employment will last less than three days. Additional information on receipts is available at https://www.uscis.gov/i-9-central/form-i-9-acceptable-documents/receipts. Employers may not reject a document based on a future expiration date. You can find additional information about Form I-9 on the I-9 Central web page at https://www.uscis.gov/I-9Central. An EAD is an acceptable document under List A.

If I have an EAD based on another immigration status, can I obtain a new DED-based EAD?

Yes, if you are covered by DED, you can obtain a new DED-based EAD, regardless of whether you have an EAD based on another immigration status. If you want to obtain a DED-based EAD valid through June 30, 2024, you must file Form I-765 and pay the associated fee.

Can my employer require that I provide any other documentation to prove my status, such as proof of my Liberian citizenship?

No. When completing Form I-9, employers must accept any documentation that appears on the Form I-9 Lists of Acceptable Documents that reasonably appears to be genuine and that relates to you, or an acceptable List A, List B, or List C receipt. Employers need not reverify List B identity documents. Therefore, employers may not request proof of Liberian citizenship when completing Form I-9 for new hires or reverifying the employment authorization of current employees. Refer to the “Note to Employees” section of this Federal Register notice for important information about your rights if your employer rejects lawful documentation, requires additional documentation, or otherwise discriminates against you based on your citizenship or immigration status, or your national origin.

Note to All Employers

Employers are reminded that the laws requiring proper employment eligibility verification and prohibiting unfair immigration-related employment practices remain in full force. This Federal Register notice does not supersede or in any way limit applicable employment verification rules and policy guidance, including those rules setting forth reverification requirements. For general questions about the employment eligibility verification process, employers may call USCIS at 888-464-4218 (TTY 877-875-6028) or email USCIS at I-9Central@dhs.gov. USCIS accepts calls and emails in English and many other languages. For questions about avoiding discrimination during the employment eligibility verification process (Form I-9 and E-Verify), employers may call the U.S. Department of Justice, Civil Rights Division, Immigrant and Employee Rights Section (IER) Employer Hotline at 800-255-8155 (TTY 800-237-2515). IER offers language interpretation in numerous languages. Employers may also email IER at IER@usdoj.gov.

Note to Employees

For general questions about the employment eligibility verification process, employees may call USCIS at 888-897-7781 (TTY 877-875-6028) or email USCIS at I-9Central@dhs.gov. USCIS accepts calls in English, Spanish and many other languages. Employees or applicants may also call the IER Worker Hotline at 800-255-7688 (TTY 800-237-2515) for information regarding employment discrimination based upon citizenship, immigration status, or national origin, including discrimination related to Form I-9 and E-Verify. The IER Worker Hotline provides language interpretation in numerous languages.

To comply with the law, employers must accept any document or combination of documents from the Lists of Acceptable Documents if the documentation reasonably appears to be genuine and to relate to the employee, or an acceptable List A, List B, or List C receipt. Employers may not require extra or additional documentation beyond what is required for Form I-9 completion. Further, employers participating in E-Verify who receive an E-Verify case result of Tentative Non-confirmation (TNC) must promptly inform employees of the TNC and give such employees an opportunity to contest the TNC. A TNC case result means that the information entered into E-Verify from Form I-9 differs from records available to DHS.

Employers may not terminate, suspend, delay training, withhold or lower pay, or take any adverse action against an employee because of the TNC while the case is still pending with E-Verify. A Final Non-confirmation (FNC) case result is received when E-Verify cannot confirm an employee's employment eligibility. An employer may terminate employment based on a case result of FNC. Work-authorized employees who receive a FNC may call USCIS for assistance at 888-897-7781 (TTY 877-875-6028). For more information about E-Verify-related discrimination or to report an employer for discrimination in the E-Verify process based on citizenship, immigration status, or national origin, contact IER's Worker Hotline at 800-255-7688 (TTY 800-237-2515). Additional information about proper nondiscriminatory Form I-9 and E-Verify procedures is available on the IER website at https://www.justice.gov/ier and the USCIS and E-Verify websites at https://www.uscis.gov/i-9-central and https://www.e-verify.gov.

Note Regarding Federal, State, and Local Government Agencies (Such as Departments of Motor Vehicles)

For Federal purposes, if you present an automatically extended DED-based EAD referenced in this Federal Register notice, you do not need to show any other document, such as a Form I-797C, Notice of Action or this Federal Register notice, to prove that you qualify for this extension. While Federal Government agencies must follow the guidelines laid out by the Federal Government, state and local government agencies establish their own rules and guidelines when granting certain benefits. Each state may have different laws, requirements, and determinations about what documents you need to provide to prove eligibility for certain benefits. Whether you are applying for a Federal, state, or local government benefit, you may need to provide the government agency your DHS-issued documentation showing you are covered by DED and/or showing you are authorized to work based on DED. Examples of such documents are:

• Your current EAD with a DED Category Code of A-11, even if your country of birth noted on the EAD does not reflect the DED designated country of Liberia; or

• Your Form I-797C, Notice of Action, reflecting approval of your Form I-765.

Check with the government agency requesting documentation regarding which documentation the agency will accept.

Some state and local government agencies use the Systematic Alien Verification for Entitlements (SAVE) program to confirm the current immigration status of applicants for public benefits. While SAVE can verify that an individual is covered by DED, each state and local government agency's procedures govern whether they will accept an unexpired EAD or Form I-797C. If an agency accepts the type of DED-related document you present, such as a DED-based EAD, the agency should accept your automatically extended EAD, regardless of the country of birth listed on the EAD. It may assist the agency if you:

a. Give the agency a copy of the relevant Federal Register notice showing the EAD extension in addition to presenting your recent EAD with your A-Number or USCIS number;

b. Explain that SAVE will be able to verify the continuation of DED using this information; and

c. Ask the agency to submit a SAVE verification request with your information and follow through with additional verification steps, if necessary, to obtain a final SAVE response verifying your coverage under DED.

In most cases, SAVE provides an automated electronic response to benefit-granting agencies within seconds, but occasionally verification can be delayed. You can check the status of your SAVE verification by using CaseCheck at https://save.uscis.gov/casecheck. CaseCheck is a free service that lets you follow the progress of your SAVE verification using your date of birth and one immigration identifier number (A-Number or USCIS number) or Verification case number. If an agency has denied your application based solely or in part on a SAVE response, the agency must offer you the opportunity to appeal the decision in accordance with the agency's procedures. If the agency has received and acted on or will act on a SAVE verification and you do not believe the response is correct, the SAVE website, https://www.uscis.gov/save, has detailed information on how to make corrections or update your immigration record, make an appointment, or submit a written request to correct records.

[FR Doc. 2022-19207 Filed 9-2-22; 8:45 am]

BILLING CODE 9111-97-P